DEPARTMENT OF COMMERCE

International Trade Administration

[A-823-808]

Suspension Agreement on Certain Cut-to-Length Carbon Steel Plate From Ukraine; Final Results of Antidumping Duty Administrative Review

AGENCY: Enforcement and Compliance, formerly Import Administration, International Trade Administration, Department of Commerce.

SUMMARY: On August 1, 2013, the Department of Commerce (the Department) published the preliminary results of an administrative review of the suspension agreement on certain cut-to-length carbon steel plate from Ukraine covering Metinvest Holding LLC (Metinvest) and its affiliated companies Azovstal Iron & Steel Works (Azovstal) and Ilyich Iron and Steel Works (Ilyich). See Suspension Agreement on Certain Cut-to-Length Carbon Steel Plate From Ukraine; Administrative Review, 78 FR 46570 (August 1, 2013) and accompanying Decision Memorandum (Preliminary Results). The period of review (POR) is November 1, 2011 through October 31, 2012. We received no comments from interested parties. For these final results, we have made no changes to our preliminary results.

DATES: Effective Date: November 12, 2013.

FOR FURTHER INFORMATION CONTACT: Judith Wey Rudman or Anne D'Alauro, Enforcement and Compliance, U.S. Department of Commerce, 14th Street and Constitution Avenue NW., Washington, DC 20230, telephone: (202) 482-0192 or (202) 482-4830, respectively.

SUPPLEMENTARY INFORMATION:

Background

On September 29, 2008, the Department signed an agreement under section 734(b) of the Tariff Act of 1930, as amended (the Act), with Ukrainian steel producers/exporters, including Azovstal and Ilyich, suspending the antidumping duty investigation on certain cut-to-length carbon steel plate (CTL plate) from Ukraine. See Suspension of Antidumping Duty Investigation: Certain Cut-to-Length Carbon Steel Plate from Ukraine, 73 FR 57602 (October 3, 2008) (Agreement). On August 1, 2013, the Department published its preliminary results of the administrative review of the Agreement for CTL plate from Ukraine produced and sold by Metinvest and its affiliated companies, Azovstal and Ilyich (collectively, the companies). See Preliminary Results. In its preliminary results, the Department determined that information submitted by the companies indicated that, during the POR, the companies adhered to the terms of the Agreement and that the Agreement is functioning as intended. We invited interested parties to comment on our preliminary results. No interested parties submitted comments.

Scope of Review

The products covered by the Agreement are CTL plate from Ukraine. This merchandise is currently classified in the Harmonized Tariff Schedule of the United States (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000. Although the HTS subheadings are provided for convenience and customs purposes, our written description of the scope of the Agreement is dispositive. For a full description of the scope of this Agreement, see Appendix A of the Agreement.

Final Results of Review

We have made no changes to the preliminary results. Our review of the information submitted by Metinvest Holding and its affiliated companies, Azovstal and Ilyich, indicates that the companies have adhered to the terms of the Agreement and that the Agreement is functioning as intended. See Preliminary Results.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation. We are issuing and publishing this determination and notice in accordance with sections 751(a)(1) and 777(i) of the Act.

Dated: November 4, 2013.
Paul Piquado,
Assistant Secretary for Enforcement and Compliance.

[FR Doc. 2013-27013 Filed 11-8-13; 8:45 am]

BILLING CODE 3510-DS-P